DEPARTMENT OF COMMERCE

National Oceanic and Atmospheric Administration

RIN 0648-XC492

Pacific Fishery Management Council; Public Meeting

AGENCY: National Marine Fisheries Service (NMFS), National Oceanic and Atmospheric Administration (NOAA), Commerce.

ACTION: Notice of public meeting.

SUMMARY: The Pacific Fishery Management Council's (Council) Ad Hoc Amendment 24 Workgroup will hold an online webinar, which is open to the public.

DATES: The Workgroup's work session will begin at 1 p.m. on Thursday, February 28 and continue until business is completed on that day.

ADDRESSES: To attend the Ad Hoc Amendment 24 Workgroup webinar, please reserve your seat by visiting https://www2.gotomeeting.com/register/789088682. If requested, enter your name, email address, and the webinar id, which is 789-088-682. Once registered, participants will receive a confirmation email message that contains detailed information about viewing the event. To only join the audio teleconference of the webinar from the U.S. or Canada, call the toll number +1 (702) 489-0007 (note: this is not a toll-free number) and use the access code 237-761-508 when prompted.

Council address: Pacific Fishery Management Council, 7700 NE Ambassador Place, Suite 101, Portland, OR 97220-1384.

FOR FURTHER INFORMATION CONTACT: Dr. Kit Dahl, Pacific Fishery Management Council, telephone: (503) 820-2280.

SUPPLEMENTARY INFORMATION: The Council formed the Amendment 24 Workgroup to develop proposals for modifying the process to periodically establish and adjust harvest levels and management measures for the Pacific Coast groundfish fishery. The Workgroup will review the proposed action and range of alternatives for the setting harvest specifications and management measures for the Pacific Coast groundfish fishery for a 10-year period, 2015-24. On or about February 21 a white paper describing the proposed action and range of alternatives will be available on the Council's Web site (www.pcouncil.org) as part of the briefing materials for the March 2013 Pacific Fishery Management Council meeting. The Council may adopt the alternatives for analysis in an environmental assessment or environmental impact statement, as required by the National Environmental Policy Act. The Workgroup is expected to prepare a report for the Council containing their comments on the proposal.

Although non-emergency issues not contained in the meeting agenda may be discussed, those issues may not be the subject of formal action during this meeting. Action will be restricted to those issues specifically listed in this document and any issues arising after publication of this document that require emergency action under section 305(c) of the Magnuson-Stevens Fishery Conservation and Management Act, provided the public has been notified of the intent to take final action to address the emergency.

Special Accommodations

The meeting is physically accessible to people with disabilities. Requests for sign language interpretation or other auxiliary aids should be directed to Mr. Kris Kleinschmidt, (503) 820-2280, at least 5 days prior to the meeting date.

Authority: 16 U.S.C. 1801 et seq.

Dated: February 7, 2013.
Tracey L. Thompson,
Acting Deputy Director, Office of Sustainable Fisheries, National Marine Fisheries Service.

[FR Doc. 2013-03149 Filed 2-11-13; 8:45 am]

BILLING CODE 3510-22-P